DEPARTMENT OF HOMELAND SECURITY

[Docket No. DHS-2013-0048]

President's National Security Telecommunications Advisory Committee

AGENCY: National Protection and Programs Directorate, DHS.

ACTION: Committee Management Notice of an Open Federal Advisory Committee Teleconference.

SUMMARY: The President's National Security Telecommunications Advisory Committee (NSTAC) will meet on Tuesday, August 20, 2013, via conference call. The meeting will be open to the public.

DATES: The NSTAC will meet on Tuesday, August 20, 2013, from 2:00 p.m. to 3:00 p.m. Please note that the meeting may close early if the committee has completed its business.

ADDRESSES: The meeting will be held via conference call. For access to the conference bridge, contact Ms. Gallop-Anderson by email at deirdre.gallop-anderson@hq.dhs.gov or by telephone at (703) 235-5468 by 5:00 p.m. on Tuesday, August 13, 2013. To facilitate public participation, we are inviting public comment on the issues to be considered by the committee as listed in the SUPPLEMENTARY INFORMATION section below. For information on services or facilities for individuals with disabilities or to request special assistance to access the meeting, contact Ms. Gallop-Anderson by email at deirdre.gallop-anderson@hq.dhs.gov or by telephone at (703) 235-5468. The documents associated with the topics to be discussed during the conference will be available at www.dhs.gov/nstac for review by Monday, August 12, 2013. Written comments must be received by the NSTAC Alternate Designated Federal Officer no later than Friday, August 16, 2013, and may be submitted by any one of the following methods:

• Federal eRulemaking Portal: http://www.regulations.gov. Follow the instructions for submitting written comments

• Email: NSTAC@hq.dhs.gov. Include the docket number in the subject line of the email message.

• Fax: (703) 235-5961

• Mail: Alternate Designated Federal Officer, Stakeholder Engagement and Critical Infrastructure Resilience Division, National Protection and Programs Directorate, Department of Homeland Security, 245 Murray Lane, Mail Stop 3016B, Arlington, VA 20598-0615.

Instructions: All submissions received must include the words “Department of Homeland Security” and the docket number for this action. Comments received will be posted with without alteration at www.regulations.gov, including any personal information provided.

Docket: For access to the docket, including all documents and comments received by the NSTAC, go to www.regulations.gov. A public comment period will be held during the meeting on Tuesday, August 20, 2013, from 2:15 p.m. to 2:30 p.m. Speakers who wish to participate in the public comment period must register in advance no later than Tuesday, August 16, 2013, at 5:00 p.m. by emailing Deirdre Gallop-Anderson at deirdre.gallop-anderson@hq.dhs.gov. Speakers are requested to limit their comments to three minutes and will speak in order of registration as time permits. Please note that the public comment period may end before the time indicated, following the last call for comments.

FOR FURTHER INFORMATION CONTACT: Mike Echols, NSTAC Alternate Designated Federal Officer, Department of Homeland Security, telephone (703) 235-5469.

SUPPLEMENTARY INFORMATION: Notice of this meeting is given under the Federal Advisory Committee Act (FACA), 5 U.S.C. App. (Pub. L. 92-463). The NSTAC advises the President on matters related to national security and emergency preparedness (NS/EP) telecommunications policy.

Agenda: The NSTAC members will deliberate and vote on the Draft NSTAC Report to the President on Secure Government Communications (SGC). The report examines how commercial-off-the-shelf technologies and private sector best practices can be used to secure unclassified communications between and among Federal civilian departments and agencies. The NSTAC members will also receive a new tasking from the Executive Office of the President.

Dated: July 22, 2013.
Mike Echols,
Alternate Designated Federal Officer for the NSTAC.

[FR Doc. 2013-17988 Filed 7-25-13; 8:45 am]

BILLING CODE 9110-9P-P